SMALL BUSINESS ADMINISTRATION

[Declaration of Disaster #P001]

State of Alaska

As a result of the President's major disaster declaration for Public Assistance on November 8, 2002, the U.S. Small Business Administration is activating its disaster loan program only for private non-profit businesses that provide essential services of a governmental nature. I find that Fairbanks North Star Borough, Denali Borough, Matanuska-Susitna Borough, the Regional Education Attendance Areas (REAA) of Delta Greely, Alaska Gateway, Copper River and Yukon-Koyukuk, and the cities of Tetlin, Mentasta Lake, Northway, Dot Lake, Chistochina, Tanacross and the unincorporated communities of Slana and Tok in the State of Alaska constitute a disaster area due to damages caused by an earthquake occurring on November 3, 2002, and continuing. Applications for loans for physical damage as a result of this disaster may be filed until the close of business on January 7, 2003 at the address listed below or other locally announced locations: Small Business Administration, Disaster Area 4 Office, P.O. Box 13795, Sacramento, CA 95853-4795.

The interest rates are:

| Percent
For Physical Damage:
Non-profit organizations without credit available elsewhere | 3.324
Non-profit organizations with credit available elsewhere | 5.500

The number assigned to this disaster for physical damage is P00102.

(Catalog of Federal Domestic Assistance Program Nos. 59002 and 59008).
Dated: November 13, 2002.
Herbert L. Mitchell,
Associate Administrator, for Disaster Assistance.

[FR Doc. 02-29434 Filed 11-19-02; 8:45 am]

BILLING CODE 8025-01-P